DEPARTMENT OF ENERGY

Federal Energy Regulatory Commission

Combined Notice of Filings #1

Take notice that the Commission received the following electric corporate filings:

Docket Numbers: EC20-67-000.

Applicants: Broadview Energy JN, LLC, Broadview Energy KW, LLC.

Description: Application for Authorization Under Section 203 of the Federal Power Act, et al. of Broadview Energy JN, LLC, et al.

Filed Date: 5/15/20.

Accession Number: 20200515-5304.

Comments Due: 5 p.m. ET 6/5/20.

Take notice that the Commission received the following exempt wholesale generator filings:

Docket Numbers: EG20-166-000.

Applicants: Tehachapi Plains Wind, LLC.

Description: Notice of Self-Certification of Exempt Wholesale Generator Status of Tehachapi Plains Wind, LLC.

Filed Date: 5/15/20.

Accession Number: 20200515-5210.

Comments Due: 5 p.m. ET 6/5/20.

Take notice that the Commission received the following electric rate filings:

Docket Numbers: ER20-1396-001.

Applicants: VETCO.

Description: Tariff Amendment: Amendment to Baseline Filing to be effective 3/26/2020.

Filed Date: 5/18/20.

Accession Number: 20200518-5113.

Comments Due: 5 p.m. ET 5/26/20.

Docket Numbers: ER20-1803-001.

Applicants: Midcontinent Independent System Operator, Inc.

Description: Tariff Amendment: 2020-05-18_SA 3493 METC-River Fork Solar Substitute GIA (J806) to be effective 4/27/2020.

Filed Date: 5/18/20.

Accession Number: 20200518-5090.

Comments Due: 5 p.m. ET 6/8/20.

Docket Numbers: ER20-1811-001.

Applicants: Midcontinent Independent System Operator, Inc.

Description: Tariff Amendment: 2020-05-18_SA 3495 ITC-White Tail Solar Substitute GIA (J799) to be effective 5/5/2020.

Filed Date: 5/18/20.

Accession Number: 20200518-5094.

Comments Due: 5 p.m. ET 6/8/20.

Docket Numbers: ER20-1836-000.

Applicants: Dominion Energy South Carolina, Inc.

Description: Compliance filing: Order 864 Compliance Filing to be effective 1/27/2020.

Filed Date: 5/15/20.

Accession Number: 20200515-5204.

Comments Due: 5 p.m. ET 6/5/20.

Docket Numbers: ER20-1837-000.

Applicants: Duke Energy Carolinas, LLC, Duke Energy Florida, LLC, Duke Energy Progress, LLC.

Description: Compliance filing: Joint OATT Order 864 Compliance Filing to be effective 1/27/2020.

Filed Date: 5/15/20.

Accession Number: 20200515-5214.

Comments Due: 5 p.m. ET 6/5/20.

Docket Numbers: ER20-1838-000.

Applicants: Duke Energy Carolinas, LLC, Duke Energy Florida, LLC.

Description: Petition for Limited Waiver, et al. of the Duke Southeast Companies.

Filed Date: 5/15/20.

Accession Number: 20200515-5307.

Comments Due: 5 p.m. ET 6/5/20

Docket Numbers: ER20-1839-000.

Applicants: VETCO.

Description: Compliance filing: Compliance Filing for Order No. 864 to be effective 3/26/2020.

Filed Date: 5/18/20.

Accession Number: 20200518-5068.

Comments Due: 5 p.m. ET 6/8/20.

Docket Numbers: ER20-1840-000.

Applicants: Southern California Edison Company.

Description: § 205(d) Rate Filing: Second Amendment DSA P&G Oxnard Cogen2 SA No. 1086 to be effective 4/1/2020.

Filed Date: 5/18/20.

Accession Number: 20200518-5073.

Comments Due: 5 p.m. ET 6/8/20.

Docket Numbers: ER20-1841-000.

Applicants: PacifiCorp.

Description: Tariff Cancellation: Termination of NTTG Funding Agreement to be effective 4/30/2020.

Filed Date: 5/18/20.

Accession Number: 20200518-5078.

Comments Due: 5 p.m. ET 6/8/20.

Docket Numbers: ER20-1842-000.

Applicants: Arizona Public Service Company.

Description: § 205(d) Rate Filing: Service Agreement No. 379—TOUA NITS to be effective 5/1/2020.

Filed Date: 5/18/20.

Accession Number: 20200518-5105.

Comments Due: 5 p.m. ET 6/8/20.

Docket Numbers: ER20-1843-000.

Applicants: PJM Interconnection, L.L.C.

Description: § 205(d) Rate Filing: Original CRA, SA No. 5637; Non-Queue No. NQ168 to be effective 4/27/2020.

Filed Date: 5/18/20.

Accession Number: 20200518-5117.

Comments Due: 5 p.m. ET 6/8/20.

Docket Numbers: ER20-1844-000.

Applicants: New York State Electric & Gas Corporation, New York Independent System Operator, Inc.

Description: § 205(d) Rate Filing: 205 re: Engineering & Procurement Agreement (SA2534) between NYSEG & NY Transco to be effective 4/23/2020.

Filed Date: 5/18/20.

Accession Number: 20200518-5129.

Comments Due: 5 p.m. ET 6/8/20.

Docket Numbers: ER20-1845-000.

Applicants: PJM Interconnection, L.L.C.

Description: § 205(d) Rate Filing: Amendment to WMPA SA No. 4760; Queue AC1-147 re: Name Change to be effective 7/24/2017.

Filed Date: 5/18/20.

Accession Number: 20200518-5155.

Comments Due: 5 p.m. ET 6/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2020.
Nathaniel J. Davis, Sr.,
Deputy Secretary.

[FR Doc. 2020-11099 Filed 5-21-20; 8:45 am]

BILLING CODE 6717-01-P